DEPARTMENT OF COMMERCE

National Oceanic and Atmospheric Administration

[I.D. 080503C]

New England Fishery Management Council; Public Meetings

AGENCY: National Marine Fisheries Service (NMFS), National Oceanic and Atmospheric Administration (NOAA), Commerce.

ACTION: Notice of a public meeting.

SUMMARY: The New England Fishery Management Council (Council) is scheduling a public meeting of its Herring Oversight Committee in September, 2003. Recommendations from the committee will be brought to the full Council for formal consideration and action, if appropriate.

DATES: The meeting will held on Wednesday, September 3, 2003 at 8 a.m.

ADDRESSES: The meeting will be held at the Crowne Plaza, 801 Greenwich Ave., Warwick, RI 02886.

Council address: New England Fishery Management Council, 50 Water Street, Newburyport, MA 01950.

FOR FURTHER INFORMATION CONTACT: Paul J. Howard, Executive Director, New England Fishery Management Council; telephone: (978) 465-0492.

SUPPLEMENTARY INFORMATION: The committee will review progress to date on development of alternatives for analysis in Amendment 1 to the Herring Fishery Management Plan (FMP). They will review Herring Advisory Panel recommendations regarding the range of alternatives for Amendment 1. They will also receive and discuss Council staff report on information related to the role of herring in the ecosystem and the importance of herring as a forage species. Also on the agenda will be developing Committee recommendations for Council consideration regarding the range of alternatives for analysis in the Amendment 1 Draft Environmental Impact Statement (DSEIS).

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: August 6, 2003.
Richard W. Surdi,
Acting Director, Office of Sustainable Fisheries, National Marine Fisheries Service.

[FR Doc. 03-20510 Filed 8-11-03; 8:45 am]

BILLING CODE 3510-22-S